DEPARTMENT OF DEFENSE

Department of the Army, Corps of Engineers

Termination of Intent To Prepare a Draft Environmental Impact Statement for a Feasibility Study To Investigate Hydrologic and Hydraulic Problems Threatening Navigation, Aquatic Ecosystem Habitat, Recreation, Flood Damage Reduction and Existing Infrastructure at the Three Rivers Study Site in Arkansas and Desha Counties in Southeast Arkansas

AGENCY: Department of the Army, U.S. Army Corps of Engineers, DoD.

ACTION: Notice of Intent; Withdrawal.

SUMMARY: The U.S. Army Corps of Engineers (USACE), Little Rock District, is issuing this notice to advise Federal, state, local governmental agencies and the public that the USACE is withdrawing its Notice of Intent (NOI) to prepare a Draft Environmental Impact Statement (EIS) for the Feasibility Study to Investigate Hydrologic and Hydraulic Problems Threatening Navigation, Aquatic Ecosystem Habitat, Recreation, Flood Damage Reduction and Existing Infrastructure at the Three Rivers Study site in Arkansas and Desha Counties in Southeast Arkansas.

ADDRESSES: U.S. Army Corps of Engineers, Little Rock District, (Attn: Mr. Craig Hilburn), P.O. Box 867, Little Rock, AR 72203-0867.

FOR FURTHER INFORMATION CONTACT: Mr. Craig Hilburn, Biologist, Regional Planning and Environmental Center. Email address: david.c.hilburn@usace.army.mil.

SUPPLEMENTARY INFORMATION: The USACE published a NOI in the Federal Register on September 14, 2015 (80 FR 55013) to prepare a Draft EIS pursuant to the National Environmental Policy Act (NEPA) for the Three Rivers Feasibility Study, Arkansas and Desha Counties, Arkansas. An agency scoping meeting and Planning Charette were held on August 11th and September 9-11, 2015, respectively, to gather input on the scope of the analysis, identify possible alternatives and significant issues to be evaluated in the Draft EIS, as well as, the identification of cooperating agencies. A public news release announcing an open comment period was released September 22, 2015 to solicit public comments from interested parties relating to navigation and ecosystem restoration opportunities within the study area. Since that time, in the course of project planning and preliminary impact analysis, it no longer appears that impacts associated with project implementation would rise to a level necessitating an EIS. In compliance with the NEPA, the Little Rock District will be preparing an Environmental Assessment to address the impacts of the proposed action and alternatives. Therefore, the Little Rock District is withdrawing the NOI to prepare a Draft EIS.

Robert G. Dixon,
Colonel, U.S. Army, District Engineer.

[FR Doc. 2017-10352 Filed 5-19-17; 8:45 am]

BILLING CODE 3720-58-P